ENVIRONMENTAL PROTECTION AGENCY

[OECA-2003-0020; FRL-7613-7]

Agency Information Collection Activities; Submission to OMB for Review and Approval; Comment Request; NESHAP for Gasoline Distribution Facilities (Stage I) (40 CFR Part 63, Subpart R), EPA ICR Number 1659.05, OMB Control Number 2060-0325

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on February 29, 2004. Under OMB regulations, the Agency may continue to conduct or sponsor the collection of information while this submission is pending at OMB. This ICR describes the nature of the information collection and its estimated burden and cost.

DATES: Additional comments may be submitted on or before February 26, 2004.

ADDRESSES: Submit your comments, referencing docket ID number OECA-2003-0020, to (1) EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Dan Chadwick, Compliance Assessment and Media Programs Division, Office of Compliance, Mail Code 2223A, Environmental Protection Agency, 1200 Pennsylvania Avenue, NW., Washington, DC 20460; telephone number: (202) 564-7054; fax number: (202) 564-0050; e-mail address: chadwick.dan@epa.gov.

SUPPLEMENTARY INFORMATION: EPA has submitted the following ICR to OMB for review and approval according to the procedures prescribed in 5 CFR 1320.12. On May 19, 2003 (68 FR 27059), EPA sought comments on this ICR pursuant to 5 CFR 1320.8(d). EPA received no comments.

EPA has established a public docket for this ICR under Docket ID Number OECA-2003-0020, which is available for public viewing at the Enforcement and Compliance Docket and Information Center in the EPA Docket Center (EPA/DC), EPA West, Room B102, 1301 Constitution Avenue, NW, Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Gasoline Distribution Facilities (Stage I) (40 CFR part 63, subpart R).

Abstract: The National Emission Standards for Hazardous Air Pollutants (NESHAP), for the regulations published at 40 CFR part 63, subpart R were promulgated on December 14, 1994 (59 FR 64318). The standards were revised on June 26, 1995 (60 FR 32913), to correct errors in the printing of the emission screening equation in the final standards, and amended on February 29, 1996 (61 FR 7723), to extend the initial compliance date for the equipment leak standard. The standards were amended again June 12, 1996 (61 FR 29875), to clarify the coverage of gasoline loading racks at refineries with through-puts greater than 75,700 liters/day. Updated direct final standards were promulgated on February 28, 1997 (62 FR 9092), to implement a proposed settlement with the American Petroleum Institute. These regulations apply to facilities that are new or existing pipeline breakout stations or bulk gasoline terminals with through-puts greater than 75,700 liters/day, commencing construction, modification or reconstruction after the date of proposal.

This ICR contains record keeping and reporting requirements that are mandatory for compliance with 40 CFR part 63, subpart R. Effective enforcement of this rule is necessary due to the hazardous nature of benzene (a known human carcinogen) and the toxic nature of the other 10 Hazardous Air Pollutants emitted from gasoline distribution facilities. In order to ensure compliance with the standards, adequate reporting and record keeping is necessary. This information enables the Agency to: (1) Identify the sources subject to the standard; (2) Ensure that leakage emissions from cargo tanks and process piping equipment components (both liquid and vapor) during loading are being minimized; (3) Ensure that emission control devices are being properly operated and maintained; and (4) Ensure that emissions from storage vessels are minimized and seal and fitting defects are repaired on a timely basis.

Responses to this information collection are deemed to be mandatory, per section 114(a) of the Clean Air Act. The required information consists of emissions data and other information that have been determined not to be private. However, any information submitted to the Agency for which a claim of confidentiality is made will be safeguarded according to the Agency policies set forth in Title 40, chapter 1, part 2, subpart B—Confidentiality of Business Information (see 40 CFR part 2; 41 FR 36902, September 1, 1976; amended by 43 FR 40000, September 8, 1978; 43 FR 42251, September 20, 1978; 44 FR 17674, March 23, 1979).

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 62 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of facilities that are new or existing pipeline breakout stations or bulk gasoline terminals.

Estimated Number of Respondents: 263.

Frequency of Response: Semi-annually, annually and on occasion.

Estimated Total Annual Hour Burden: 32,575 hours.

Estimated Total Annual Cost: $2,940,000, includes $0 annualized capital/startup costs, $851,000 O&M costs and $2,089,000 labor costs.

Changes in the Estimates: There is no increase or decrease of hours in the total estimated burden currently identified in the OMB inventory of Approved ICR Burdens.

Dated: January 20, 2004.
Doreen Sterling,
Acting Director, Collection Strategies Division.

[FR Doc. 04-1679 Filed 1-26-04; 8:45 am]

BILLING CODE 6560-50-P